PEACE CORPS

Submission for OMB Emergency Review: Request for Comments

AGENCY: Peace Corps.

ACTION: Notice of information collection—OMB emergency review and request for comments requested.

SUMMARY: The Peace Corps has submitted the following information collection request, utilizing emergency review procedures, to the Office of Management and Budget (OMB) for review and clearance in accordance with the Paperwork Reduction Act of 1995 and 5 CFR 1320.13. OMB approval has been requested by June 8, 2011. The Office of Management and Budget is particularly interested in comments that: 1. Evaluate whether the proposed collection of information is necessary for the proper performance of the functions of the agency, including whether the information will have practical utility; 2. Evaluate the accuracy of the agency's estimate of the burden of the proposed collection of information, including the validity of the methodology and assumptions used; 3. Enhance the quality, utility, and clarity of the information to be collected; and 4. Minimize the burden of the collection of information on those who are to respond, including through the use of appropriate automated, electronic, mechanical, or other technological collection techniques or other forms of information technology, e.g., permitting electronic submissions of responses.

DATES: Comments on this proposal for emergency review should be received by June 3, 2011. We are requesting OMB to take action within 5 calendar days from the close of this Federal Register Notice on the request for emergency review. This process is conducted in accordance with 5 CFR 1320.13.

ADDRESSES: Interested persons are invited to submit written comments on the proposed information collection to the Office of Information and Regulatory Affairs, Office of Management and Budget, 725 17th Street, NW., Washington, DC 20503, Attention: Desk Officer for the Peace Corps or sent via e-mail to oira_submission@omb.eop.gov or faxed to (202) 395-3086.

FOR FURTHER INFORMATION CONTACT: Denora Miller, FOIA Officer, Peace Corps, 1111 20th Street, NW., Washington, DC 20526, (202) 692-1236, or e-mail at pcfr@mailto:ddunevant@peacecorps.govpeacecorps.gov.

SUPPLEMENTARY INFORMATION: The Office of Volunteer Recruitment and Selection at the Peace Corps utilizes the NAC form as authorization from the candidate to conduct a formal background check through the Office of Personnel Management, which has access to pertinent records pertaining to applicants' legal activities and suitability for Peace Corps volunteer service. The Peace Corps Act requires the Director of the Peace Corps to ensure that the assignment of volunteers is consistent with the national interest in accordance with the standards and procedures established by the President of the United States. 22 U.S.C. 2519. We are seeking an emergency clearance to allow us to continue our eligibility and selection process. 22 CFR 305.3 and 305.4.

OMB Control Number: 0420-0001.

Title: National Agency Check (NAC) Questionnaire for Peace Corps Volunteer Background Investigation.

Type of Review: Reinstatement, without change, of a previously approved collection for which approval has expired.

Affected Public: Potential and current volunteers.

Respondents' Obligation to Reply: Voluntary.

Burden to the Public:

a. Number of Average Applicants: 13,500.

b. Number of Applicants Who Submit NAC Form: 13,500.

c. Frequency of Response: One time.

d. Completion Time: 15 minutes.

e. Annual Burden Hours: 3,375.

This notice issued in Washington, DC, on May 23, 2011.
Earl W. Yates,
Associate Director, Management.

[FR Doc. 2011-13351 Filed 5-31-11; 8:45 am]

BILLING CODE 6051-01-P